DEPARTMENT OF DEFENSE

Department of the Army

Corps of Engineers

33 CFR Part 334

United States Marine Corps, Marine Corps Base Quantico, Quantico VA; Restricted Area

AGENCY: U.S. Army Corps of Engineers, Department of Defense.

ACTION: Notice of proposed rulemaking and request for comments.

SUMMARY: The Corps of Engineers (Corps) is proposing to amend its regulations to establish a permanent restricted area in the waters of the Potomac River in the vicinity of Marine Corps Base (MCB) Quantico, located in Quantico, Virginia. The establishment of a permanent restricted area is necessary to reflect the current security and safety needs at MCB Quantico, including protection of military assets at the Marine Corps Air Facility (MCAF) Quantico, which include the Presidential Helicopter Squadron. The assets located on MCAF Quantico are considered national assets of strategic value and require the increased protection obtained by restricting all public access to within 500 meters of the MCAF shoreline. The proposed restricted area provides standoff from most small arms weapons, acts as a security buffer, and assists USMC security forces in determining intent amongst heavy boat traffic. Additionally, there is an extreme hazard to small craft and vessels operating in close proximity to the MCAF due to jet and prop wash from heavy jet and rotary wing aircraft operating at low altitudes while conducting takeoff and landing operations. The proposed restricted area protects public safety by denying vessels access to this danger. The restricted area is also required to protect public health by preventing vessels from disturbing a planned environmental remediation area located in the vicinity of MCAF. The restricted area will extend approximately 500 meters from the shoreline of MCB/MCAF Quantico and will include the Chopawamsic Creek channel.

DATES: Written comments must be submitted on or before September 30, 2010.

ADDRESSES: You may submit comments, identified by docket number COE-2010-0032, by any of the following methods:

Federal eRulemaking Portal: http://www.regulations.gov. Follow the instructions for submitting comments.

E-mail: david.b.olson@usace.army.mil. Include the docket number, COE-2010-0032, in the subject line of the message.

Mail: U.S. Army Corps of Engineers, Attn: CECW-CO-R (David B. Olson), 441 G Street, NW., Washington, DC 20314-1000.

Hand Delivery/Courier: Due to security requirements, we cannot receive comments by hand delivery or courier.

Instructions: Direct your comments to docket number COE-2010-0032. All comments received will be included in the public docket without change and may be made available on-line at http://www.regulations.gov, including any personal information provided, unless the commenter indicates that the comment includes information claimed to be Confidential Business Information (CBI) or other information whose disclosure is restricted by statute. Do not submit information that you consider to be CBI, or otherwise protected, through regulations.gov or e-mail. The regulations.gov Web site is an anonymous access system, which means we will not know your identity or contact information unless you provide it in the body of your comment. If you send an e-mail directly to the Corps without going through regulations.gov, your e-mail address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov. All documents in the docket are listed. Although listed in the index, some information is not publicly available, such as CBI or other information whose disclosure is restricted by statute. Certain other material, such as copyrighted material, is not placed on the Internet and will be publicly available only in hard copy form.

FOR FURTHER INFORMATION CONTACT: Mr. David Olson, Headquarters, Operations and Regulatory Community of Practice, Washington, DC at 202-761-4922, or Mr. Steve Elinsky, Corps of Engineers, Baltimore District, Regulatory Branch, at 410-962-4503.

SUPPLEMENTARY INFORMATION: Pursuant to its authorities in Section 7 of the Rivers and Harbors Act of 1917 (40 Stat. 266; 33 U.S.C. 1) and Chapter XIX of the Army Appropriations Act of 1919 (40 Stat. 892; 33 U.S.C. 3), the Corps proposes to amend its regulations at 33 CFR part 334 to establish a permanent restricted area to reflect the current security and safety needs at MCB Quantico, including protection of military assets at the Marine Corps Air Facility (MCAF) Quantico, which include the Presidential Helicopter Squadron. The assets located on MCAF Quantico are considered national assets of strategic value and require the increased protection obtained by restricting all public access to within 500 meters of the MCAF shoreline. The proposed restricted area provides standoff from most small arms weapons, acts as a security buffer, and assists USMC security forces in determining intent amongst heavy boat traffic. Additionally, there is an extreme hazard to small craft and vessels operating in close proximity to the MCAF due to jet and prop wash from heavy jet and rotary wing aircraft operating at low altitudes while conducting takeoff and landing operations. The proposed restricted area will protect public safety by keeping vessels from this danger. The restricted area is also required to protect public health by preventing vessels from disturbing a planned environmental remediation area located in the vicinity of MCAF. The restricted area will extend approximately 500 meters from the shoreline of MCB/MCAF Quantico and will include the Chopawamsic Creek channel.

Procedural Requirements

a. Review Under Executive Order 12866

This proposed rule is issued with respect to a military function of the Defense Department and the provisions of Executive Order 12866 do not apply.

b. Review Under the Regulatory Flexibility Act

This proposed rule has been reviewed under the Regulatory Flexibility Act (Pub. L. 96-354) which requires the preparation of a regulatory flexibility analysis for any regulation that will have a significant economic impact on a substantial number of small entities (i.e., small businesses and small governments). Unless information is obtained to the contrary during the public notice comment period, the Corps expects that the economic impact of the establishment of this danger zone would have practically no impact on the public, result in no anticipated navigational hazard, or cause interference with existing waterway traffic. This proposed rule if adopted, will have no significant economic impact on small entities.

c. Review Under the National Environmental Policy Act

Due to the administrative nature of this action and because there is no intended change in the use of the area, the Corps expects that this regulation, if adopted, will not have a significant impact to the quality of the human environment and, therefore, preparation of an environmental impact statement will not be required. An environmental assessment will be prepared after the public notice period is closed and all comments have been received and considered. After it has been prepared, it may be reviewed at the District office listed at the end of FOR FURTHER INFORMATION CONTACT, above.

d. Unfunded Mandates Act

This proposed rule does not impose an enforceable duty among the private sector and, therefore, it is not a Federal private sector mandate and it is not subject to the requirements of either Section 202 or Section 205 of the Unfunded Mandates Act. We have also found under Section 203 of the Act, that small governments will not be significantly and uniquely affected by this rulemaking.

List of Subjects in 33 CFR Part 334

Danger zones, Marine safety, Navigation (water), Restricted areas, Waterways.

For the reasons set out in the preamble, the Corps proposes to amend 33 CFR part 334 as follows:

PART 334—DANGER ZONE AND RESTRICTED AREA REGULATIONS

1. The authority citation for 33 CFR 334 continues to read as follows:

Authority: 40 Stat. 266 (33 U.S.C. 1) and 40 Stat. 892 (33 U.S.C. 3).

2. Add section 334.235 to read as follows:

§ 334.235 Potomac River, in the vicinity of Marine Corps Base Quantico, Quantico, Virginia; Restricted Area.

(a) The area. All of the navigable waters of the Potomac River extending approximately 500 meters from the mean high water mark on the Eastern shoreline of the Marine Corps Air Facility, bounded by these coordinates (including the Chopawamsic Creek channel, but excluding Chopawamsic Island):

Latitude N 38°29′34.04″ Longitude W 077°18′22.4″ (Point A); thence to

Latitude N 38°29′43.01″ Longitude W 077°18′4.1″ (Point B); thence to

Latitude N 38°29′55.1″ Longitude W 077°17′51.3″ (Point C); thence to

Latitude N 38°30′10.1″ Longitude W 077°17′40.3″ (Point D); thence to

Latitude N 38°30′23.43″ Longitude W 077°17′50.30″ (Point E); then along the western shoreline of Chop Island to

Latitude N 38°30′35.13″ Longitude W 077°17′47.45″ (Point F); thence to

Latitude N 38°30′42.1″ Longitude W 077°17′37.1″ (Point G); thence to

Latitude N 38°30′50.71″ Longitude W 077°17′54.12″ (Point H); then along the shoreline to

Latitude N 38°30′0.058″ Longitude W 077°18′39.26″ (Point I); then across Chopawamsic Channel to

Latitude N 38°29′58.45″ Longitude W 077°18′39.97″ (Point J); thence to

Latitude N 38°29′38.2″ Longitude W 077°18′38.14″ (Point K); and thence to the point of origin.

The United States Marine Corps intends to install marker buoys and warning signs at 500 foot intervals to outline the boundary of the Restricted Area. In addition, lighted, floating, small craft intrusion barriers will be placed across the Chopawamsic Creek channel at the entrance to the channel from the Potomac and just West of the CSX railroad bridge.

(b) The regulations. (1) All persons, vessels, or other craft are prohibited from entering, transiting, drifting, dredging, or anchoring within the restricted area without the permission of the Commander, MCB Quantico or his/her designated representatives.

(2) The restriction will be in place 24 hours a day, seven days a week.

(3) Licensed commercial fisherman will be authorized controlled access to the restricted area after registering with MCB Quantico officials and following specific access notification procedures. However, no vessels will be allowed in the Chopawamsic Creek channel. Warning signs/buoys will be placed at 500-foot intervals along the boundary to notify individuals of the restricted area and that entry is prohibited. Additionally, floating, lighted, small craft intrusion barriers will be placed across the Chopawamsic Creek channel at the entrance to the channel from the Potomac and just west of the CSX railroad bridge.

(c) Enforcement. The restricted area will be enforced by the Commander, MCB Quantico. Enforcement will include 24/7 shoreline observation by security personnel and electronic monitoring systems. USMC boats with law enforcement personnel will randomly patrol the restricted area and provide a response capability. All persons, vessels, or other craft are prohibited from entering, transiting, drifting, dredging, or anchoring within the restricted area without the permission of the Commander, MCB Quantico or his/her designated representative.

Dated: August 23, 2010.
Michael G. Ensch,
Chief, Operations, Directorate of Civil Works.

[FR Doc. 2010-21756 Filed 8-30-10; 8:45 am]

BILLING CODE 3720-58-P